DEPARTMENT OF ENERGY

Federal Energy Regulatory Commission

Combined Notice of Filings #1

Take notice that the Commission received the following electric corporate filings:

Docket Numbers: EC17-156-000.

Applicants: Hog Creek Wind Project, LLC.

Description: Application for Authorization for Disposition of Jurisdictional Facilities and Request for Expedited Action of Hog Creek Wind Project, LLC.

Filed Date: 8/9/17.

Accession Number: 20170809-5158.

Comments Due: 5 p.m. ET 8/30/17.

Take notice that the Commission received the following electric rate filings:

Docket Numbers: ER15-794-006.

Applicants: Catalyst Paper Operations Inc.

Description: Compliance filing: Update MBR Tariff to be effective 1/27/2017.

Filed Date: 8/10/17.

Accession Number: 20170810-5032.

Comments Due: 5 p.m. ET 8/31/17.

Docket Numbers: ER17-2200-001.

Applicants: PJM Interconnection, L.L.C.

Description: Tariff Amendment: Errata to OATT Att O and P revisions submitted in ER17-2200 re: Solar Generation to be effective 9/29/2017.

Filed Date: 8/10/17.

Accession Number: 20170810-5056.

Comments Due: 5 p.m. ET 8/31/17.

Docket Numbers: ER17-2271-000.

Applicants: New York Independent System Operator, Inc.

Description: § 205(d) Rate Filing: NYISO 205 filing black start and system restoration service tariff revisions to be effective 10/8/2017.

Filed Date: 8/9/17.

Accession Number: 20170809-5114.

Comments Due: 5 p.m. ET 8/30/17.

Docket Numbers: ER17-2272-000.

Applicants: Wolverine Power Supply Cooperative, Inc.

Description: § 205(d) Rate Filing: Second Amended and Restated IFA Agreement to be effective 12/31/9998.

Filed Date: 8/9/17.

Accession Number: 20170809-5134.

Comments Due: 5 p.m. ET 8/30/17.

Docket Numbers: ER17-2273-000.

Applicants: Midcontinent Independent System Operator, Inc.

Description: § 205(d) Rate Filing: 2017-08-09_SA 3041 Gratiot Farms-METC GIA (G934) to be effective 8/9/2017.

Filed Date: 8/9/17.

Accession Number: 20170809-5141.

Comments Due: 5 p.m. ET 8/30/17.

Docket Numbers: ER17-2274-000.

Applicants: Midcontinent Independent System Operator, Inc.

Description: § 205(d) Rate Filing: 2017-08-10_SA 3037 Pine River Wind-METC GIA (J589) to be effective 7/27/2017.

Filed Date: 8/10/17.

Accession Number: 20170810-5008.

Comments Due: 5 p.m. ET 8/31/17.

Docket Numbers: ER17-2275-000.

Applicants: Green Power Energy LLC.

Description: Petition for Limited Waiver and Request for Expedited Action of Green Power Energy LLC.

Filed Date: 8/10/17.

Accession Number: 20170810-5026.

Comments Due: 5 p.m. ET 8/31/17.

Docket Numbers: ER17-2276-000.

Applicants: Midcontinent Independent System Operator, Inc.

Description: § 205(d) Rate Filing: 2017-08-10_Termination of Project J233 E&P Agreements (SA 2507 & SA 2696) to be effective 8/11/2017.

Filed Date: 8/10/17.

Accession Number: 20170810-5027.

Comments Due: 5 p.m. ET 8/31/17.

Docket Numbers: ER17-2277-000.

Applicants: Midcontinent Independent System Operator, Inc.

Description: § 205(d) Rate Filing: 2017-08-10_SA 1976 MEC-ITC Midwest 3rd Revised TIA to be effective 8/21/2017.

Filed Date: 8/10/17.

Accession Number: 20170810-5036.

Comments Due: 5 p.m. ET 8/31/17.

Docket Numbers: ER17-2278-000.

Applicants: Midcontinent Independent System Operator, Inc., Otter Tail Power Company.

Description: § 205(d) Rate Filing: 2017-08-10_SA 3035 OTP-Dakota Range I & II E&P (J436 J437) to be effective 7/29/2017.

Filed Date: 8/10/17.

Accession Number: 20170810-5052.

Comments Due: 5 p.m. ET 8/31/17.

Docket Numbers: ER17-2279-000.

Applicants: Duke Energy Progress, LLC.

Description: § 205(d) Rate Filing: Craven LGIA SA 271 Filing to be effective 10/10/2017.

Filed Date: 8/10/17.

Accession Number: 20170810-5071.

Comments Due: 5 p.m. ET 8/31/17.

Docket Numbers: ER17-2280-000.

Applicants: Southwestern Public Service Company.

Description: § 205(d) Rate Filing: SPS-GSEC-RBEC-CA-Wolves-668-0.0.0 to be effective 10/8/2017.

Filed Date: 8/10/17.

Accession Number: 20170810-5089.

Comments Due: 5 p.m. ET 8/31/17.

Docket Numbers: ER17-2281-000.

Applicants: Swamp Fox Solar, LLC.

Description: Baseline eTariff Filing: Baseline new to be effective 10/10/2017.

Filed Date: 8/10/17.

Accession Number: 20170810-5093.

Comments Due: 5 p.m. ET 8/31/17.

Docket Numbers: ER17-2282-000.

Applicants: Champion Solar, LLC.

Description: Baseline eTariff Filing: Baseline new to be effective 10/10/2017.

Filed Date: 8/10/17.

Accession Number: 20170810-5095.

Comments Due: 5 p.m. ET 8/31/17.

Take notice that the Commission received the following electric securities filings:

Docket Numbers: ES17-52-000.

Applicants: Upper Peninsula Power Company.

Description: Application of Upper Peninsula Power Company for Authorization under Section 204 of the Federal Power Act and Request for Expedited Treatment.

Filed Date: 8/10/17.

Accession Number: 20170810-5072.

Comments Due: 5 p.m. ET 8/31/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: August 10, 2017.
Nathaniel J. Davis, Sr.,
Deputy Secretary.

[FR Doc. 2017-17349 Filed 8-16-17; 8:45 am]

BILLING CODE P6717-01-P